GULF COAST ECOSYSTEM RESTORATION COUNCIL

[Docket No. 108232016-1111-05]

Draft Update to the Comprehensive Plan

AGENCY: Gulf Coast Ecosystem Restoration Council.

ACTION: Notice of availability; request for comments.

SUMMARY: In accordance with the Resources and Ecosystems Sustainability, Tourist Opportunities, and Revived Economies of the Gulf States Act (RESTORE Act or Act) (33 U.S.C. 1321(t) and note), the Gulf Coast Ecosystem Restoration Council (Council) requests comments on the proposed draft of its Comprehensive Plan Update (Plan update). The Plan update is intended to provide strategic guidance for future Council restoration activities, and to position the Council to most effectively use future funds for Gulf ecosystem restoration.

FOR FURTHER INFORMATION: Please send questions by email to frcomments@restorethegulf.gov, or contact Will D. Spoon at (504) 239-9814. Additional information can also be found on the Web site at www.RestoreTheGulf.gov.

DATES: The deadline for public and Tribal comments on this Plan update is October 7, 2016.

ADDRESSES: Comments on the draft Plan update may be submitted through one of these methods:

• Electronic Web site Submission: Through the following Web site: www.RestoreTheGulf.gov.

• Email: By email to: frcomments@restorethegulf.gov.

• Mail/Commercial Delivery: By surface mail to: Gulf Coast Ecosystem Restoration Council, Attention: Draft Comprehensive Plan Update Comments, Hale Boggs Federal Building, 500 Poydras Street, Suite 1117, New Orleans, LA 70130.

In general, the Council will make such comments available for public inspection and copying on its Web site, www.RestoreTheGulf.gov without change, including any business or personal information provided, such as names, addresses, email addresses, or telephone numbers. All comments received, including attachments and other supporting materials, will be part of the public record and subject to public disclosure. You should only submit information that you wish to make publicly available.

SUPPLEMENTARY INFORMATION:

DOCUMENT AVAILABILITY: Copies of the draft Plan update are available at the following office during regular business hours: Gulf Coast Ecosystem Restoration Council, Hale Boggs Federal Building, 500 Poydras Street, Suite 1117, New Orleans, LA 70130. Electronic versions of the draft Plan update can be viewed and downloaded at www.RestoreTheGulf.gov.

Background and Summary: The Deepwater Horizon oil spill led to 2012 passage of the RESTORE Act, which directs 80 percent of associated civil and administrative Clean Water Act penalties to ecosystem restoration, economic recovery, and tourism promotion in the Gulf Coast region. To administer a portion of these funds, the RESTORE Act established the Council, comprised of principals from the five Gulf Coast States and six federal agencies. One of the Council's primary responsibilities is to develop and update a Comprehensive Plan to restore the ecosystem and the economy of the Gulf Coast region.

The Council approved an Initial Comprehensive Plan in August 2013. Since that time, there have been important developments that warrant a Plan update; the resolution of civil claims against BP has provided clarity regarding the amount and timing of funds available to the Council. Additionally, the Council is now also in a position to develop a Ten-Year Funding Strategy, as required by the RESTORE Act. The Council has also gained valuable knowledge during the process of developing and approving (on December 9, 2015) the first set of foundational restoration activities in its Initial Funded Priorities List (FPL).

The process of developing the FPL was a tremendous success for the Council. The Council benefited greatly from public input during this process. To learn as much as it could from this first round of funding decisions, the Council also conducted a retrospective review of the FPL process and published a Lessons Learned and Path Forward Summary Report, which helped identify and reinforce important lessons applicable to future Council activities.

This draft Plan update does not identify specific restoration activities; that is the purpose of future FPLs and State Expenditure Plans (SEPs), described in more detail in the draft Plan update. Rather, the Plan update is intended to improve Council decisions by:

• Ensuring consistency with the Priority Criteria referenced in the Act;

• Reinforcing the Council's goals, objectives and commitments;

• Setting forth a Ten-Year Funding Strategy, including a Council vision for ecosystem restoration;

• Increasing collaboration among Council members and partner restoration programs;

• Refining the process for ensuring that the Council's decisions are informed by the best available science; and

• Improving the efficiency, effectiveness and transparency of Council actions.

Public input on the Council's previous activities has helped shape this draft Plan update. The Council is committed to continuously improving and adapting in response to new information and feedback, and looks forward to hearing the views of all stakeholders on this draft Plan update.

Public and Tribal Meetings on the Draft Plan Update

In addition to the comment opportunities discussed above, the Council will also hold a number of public and Tribal meetings across the Gulf to hear from the public and Tribes regarding this draft Plan update. The locations, dates, and times for the public meetings can be found at www.RestoreTheGulf.gov.

Legal Authority: The statutory program authority for the draft Plan update is found at 33 U.S.C. 1321(t).

Will D. Spoon,
Program Analyst, Gulf Coast Ecosystem Restoration Council.

[FR Doc. 2016-19986 Filed 8-22-16; 8:45 am]

BILLING CODE 6560-58-P